ENVIRONMENTAL PROTECTION AGENCY

[EPA-HQ-OPP-2016-0242 and EPA-HQ-OPP-2016-0226; FRL-9949-39]

Guidance for Pesticide Registrants on Pesticide Resistance Management Labeling and Guidance for Herbicide Resistance Management Labeling, Education, Training, and Stewardship; Extension of Comment Period

AGENCY: Environmental Protection Agency (EPA).

ACTION: Notice; extension of comment period.

SUMMARY: EPA issued two notices in the Federal Register on June 3, 2016, each announcing the availability of a draft Pesticide Registration Notice (PR Notice) for review and comment: One entitled “Guidance for Pesticide Registrants on Pesticide Resistance Management Labeling” and the other entitled “Guidance for Herbicide Resistance Management Labeling, Education, Training, and Stewardship.” In response to requests received, this document extends the comment period for 30 days, from August 2, 2016 to September 1, 2016. This is one of the busiest times of year for pest control experts and this will allow them extra time to complete their review and comment on the PRNs.

DATES: Comments must be received on or before September 1, 2016.

ADDRESSES: Follow the detailed instructions provided under ADDRESSES in the Federal Register documents of June 3, 2016 (81 FR 35766) (FRL-9946-52) and (81 FR 35767) (FRL-9946-53).

FOR FURTHER INFORMATION CONTACT: For the Guidance for Pesticide Registrants on Pesticide Resistance Management Labeling; Notice of Availability, contact Nikhil Mallampalli, Biological and Economic Analysis Division (7503P), Office of Pesticide Programs, Environmental Protection Agency, 1200 Pennsylvania Ave. NW., Washington, DC 20460-0001; telephone number: (703) 308-1924; email address: mallampalli.nikhil@epa.gov. For information on the Guidance for Herbicide Resistance Management Labeling, Education, Training, and Stewardship contact, Bill Chism, Biological and Economic Analysis Division (7503P), Office of Pesticide Programs, Environmental Protection Agency, 1200 Pennsylvania Ave. NW., Washington, DC 20460-0001; telephone number: (703) 308-8136; email address: chism.bill@epa.gov.

SUPPLEMENTARY INFORMATION: This document extends the public comment period established in two Federal Register documents of June 3, 2016 (81 FR 35766) (FRL-9946-52) and (81 FR 35767) (FRL-9946-53), that each announced the availability of a draft PR Notice: One entitled “Guidance for Pesticide Registrants on Pesticide Resistance Management Labeling” and the other entitled “Guidance for Herbicide Resistance Management Labeling, Education, Training, and Stewardship.” EPA is hereby extending the comment period, which was set to end on August 2, 2016, to now end September 1, 2016.

To submit comments, or access the docket, please follow the detailed instructions provided under ADDRESSES in the Federal Register documents of June 3, 2016. If you have questions, consult the person listed under FOR FURTHER INFORMATION CONTACT.

Authority: 7 U.S.C. 136 et seq.

Dated: July 21, 2016.
Wynne F. Miller,
Acting Director, Biological and Economic Analysis Division, Office of Pesticide Programs.

[FR Doc. 2016-17922 Filed 8-4-16; 8:45 am]

BILLING CODE 6560-50-P